DEPARTMENT OF JUSTICE

National Institute of Corrections

Solicitation for a Cooperative Agreement: Identifying Characteristics of High Performing Correctional Organizations

AGENCY: National Institute of Corrections, Department of Justice.

ACTION: Solicitation for Cooperative Agreement.

SUMMARY: The National Institute of Corrections (NIC) is soliciting proposals from organizations, groups or individuals to enter into a cooperative agreement for a 12-month, developmental phase of a new initiative, “Identifying the Characteristics of High Performing Correctional Organizations.” This project will focus on developing a methodology to allow organizations to build from their strengths to identify and bridge gaps between current performance and optimal performance in terms of efficiency, effectiveness and accountability.

Project Goal: The products from this cooperative agreement will be to establish a model, accompanying assessment methodology, and appropriate performance measures that define a high performance correctional agency or system. The model will synthesize the literature about building high-performance organizations into diagnostic tools that can be put to practical use by organizations to understand their business practices and overall performance. The intended user of the tools are local and state operated jails, prisons and community corrections agencies or systems.

The intended outcome for this project is to establish a model, assessment methodology, performance indicators, and practical strategies to (1) Develop ways to address agency inefficiencies that result from the lack of a “holistic” and integrated perspective; (2) establish a core set of values or guiding principles that agencies can apply to correctional disciplines to enhance business practices; (3) improve organizational performance by assessing strengths, weaknesses, opportunities, resources and threats; (4) prioritize goals and objectives; and (5) contain costs associated with operating correctional agencies and systems. This project will:

Define the “hard side” of correctional organizations i.e. strategic plan, mission statement, capacity building, policy/procedure etc; their leadership and management philosophy; organizational structure; and other operational characteristics.

Identify methods to improve the infrastructure, activities, and outputs of correctional organizations to be better aligned with operational practices, community partnerships, offender reentry and the best use of resources.

Identify evidence based and/or best practices.

Develop and test tools that can be put to practical use.

Develop methods to measure the degree to which correctional organizations are functioning that comprises the actual output or result measured against its intended outputs or goals and objectives in determining performance.

DATES: Applications must be received by 4 p.m. EST on Thursday, June 19, 2008. Selection of the successful applicant and notification of review results to all applicants no later than July 31, 2008 for projects to begin by September 1, 2008.

ADDRESSES: Mailed applications must be sent to Director, National Institute of Corrections, 320 First Street, NW., Room 5007, Washington, DC 20534. Applicants are encouraged to use Federal Express, UPS, or similar service to ensure delivery by the due date. Hand delivered applications should be brought to 500 First Street, NW., Washington, DC 20534. At the front desk, call (202) 307-3106, extension 0 for pickup. Faxed applications will not be accepted. The only electronic applications (preferred) that will be accepted must be submitted through http://www.grants.gov.

FOR FURTHER INFORMATION CONTACT: A copy of this announcement and the required application forms can be downloaded from the NIC Web site at http://www.nicic.gov.

All technical or programmatic questions concerning this announcement should be directed to Sherry Carroll, Correctional Program Specialist, National Institute of Corrections. Ms. Carroll can be reached by calling 1-800-995-6423 ext 0378 or by e-mail at scarroll@bop.gov.

SUPPLEMENTARY INFORMATION: Background: Correctional leaders receive a constant stream of advice on the essential elements and functions that constitute professional correctional management and practices. A large literature, much of it based on studies of private sector practices, exists on the best leadership, management, and organizational strategies to produce high performance organizations. At the same time, there are a number of recommended “best practices” being offered through training and technical assistance by NIC, other government agencies, and professional organizations or from researchers and academicians on how to best operate correctional agencies and systems. To date, however, there has been little progress in identifying which of these many recommendations are related to higher performance and, if related, how they can be measured.

Progress to date: During 2006, NIC sponsored a workgroup of subject matter experts. The group identified nine categories or core guiding principles considered as important factors in determining criminal justice system performance on the State or local governance level for community corrections. Those principles are: (1) Leadership and Management Development, (2) Information and Knowledge Management; (3) Comprehensive Criminal Justice Planning, (4) Offender Management (5) Collaborative Partnerships, (6) Organizational Development, (7) Accurate, Fair and Timely Processes, (8) Stewardship of Public Resources, and (9) Public Safety.

The applicant awarded this cooperative agreement will continue to draw from the literature to further define or shape those principles at a macro level to span across, and determine their applicability to, jails, prisons, and community corrections agencies at the State and local levels. There are several NIC products that can be found on the Internet (http://www.nicic.gov) that relate to core guiding principles such as collaborative problem solving for criminal justice, implementing evidence based principles in community corrections, gender responsivity principles and leadership/core competencies.

Goals of Identifying Characteristics of a High Performing Correctional Organizations Cooperative Agreement: The goal is to develop a model that will synthesize the literature about building high-performance organizations into diagnostic tools that can be put to practical use by practitioners and organizations to understand their business practices and overall performance. The project is multi-tiered to include a general set of core principles then tailored to organizational business practices/applications specific to correctional disciplines (jails, prisons and community corrections).

If an organization is under-utilizing resources then it may be performing at a level below its potential. The model and assessment tools developed under this award will allow agencies to develop and improve their operational infrastructure and build their capacity in a number of areas. In building capacity agency-wide, it may include, but is not limited to, operational management, organizational development principles, business practices, program and offender management, financial processes, accountability and quality assurance.

As this project continues, it will also incorporate the “soft side” or informal characteristics of an organization's culture often referred to as “the way things are really done” and test how and to what degree those cultural factors can, in conjunction with the “hard side” (or formal business practices) either enhance or obstruct efforts to improve performance. The practitioner will have the ability to understand the interaction between both the operational and cultural aspects of an organization. The practitioner can then understand how and why the system operates as it does, employ intervention strategies and improve performance.

At selected points in the process, the NIC project manager will have sign off authority for the project to move forward and approval to release any information about the project. The selected sign-off points will be determined as the project plans are developed and approved by NIC.

There are three (3) tasks to be achieved under this cooperative agreement: (1) Conduct Research, to identify, develop, and test assessment instruments, tools, and resources, (2) Engage Stakeholders in High Performing Correctional Organization concepts, and (3) Produce Deliverable Products.

Under Task 1, Conduct Research, the project will develop an operational definition of a high performing correctional organization and what business practices/processes they should perform. The definition will be based on a review and synthesis of existing literature from both the public and private sectors on business practices and change strategies that can be tested in correctional agencies or systems. In addition, the project will synthesize previous work on performance measurements for jails, prisons, and community corrections agencies and identify new performance indicators that could be used for each.

Subtasks under Task 1 will include:

Subtask 1.1: Conduct site visits to organizations considered high performing.

Subtask 1.2: Conduct research to validate characteristics and needs of the correctional agencies or systems.

Subtask 1.3: Conduct research and analysis of correctional resources for building the framework.

Subtask 1.4: Conduct research on strength based, evidence based and best practices.

Subtask 1.5: Review current and relevant research on private and public sector business practices.

Subtask 1.6: Research literature review on organizational structures (hierarchy, matrix, etc).

Under Task 2, Engage stakeholders in High Performing Correctional Organization concepts, the project will engage the field to review and refine the results of Task 1. Subtasks under Task 2 will include:

Subtask 2.1: Convene experts and thought leaders (from the corrections field, academia, consultant firms, NIC, and criminal justice system related organizations) to hold meetings and focus groups in contributing to the building of the framework, methodology, and assessment tool.

Subtask 2.2: Assist NIC in creating partnership opportunities to inform and advance work.

Under Task 3, Produce Deliverable Products, a number of deliverables will be produced as a result of the project's activities. The format of the deliverable products (reports, presentations, and activities) will be defined through the course of the work, but their content is listed below.

Subtasks under Task 3 will include:

Subtask 3.1: A definition of high performing correctional organizations.

Subtask 3.2: A description of the principles, requirements, and measurements of a “high performing” organization for correctional systems (jails, prisons, and community corrections) and “hard-side” business practices.

Subtask 3.3: A methodology for engaging agencies in using the framework, assessment processes, tools and resources.

Subtask 3.4: A comparison of exiting tools and resources.

Subtask 3.5: A set of tools and resources that correctional agencies can use to assess performance, prepare for performance improvements, and implement change efforts.

Subtask 3.6: A methodology to test, analyze and modify tools.

Subtask 3.7: A basic set of performance indicators appropriate for use in prisons, jails, and community corrections agencies.

Subtask 3.8: A protocol for implementing a self-assessment tool.

Subtask 3.9: A report suitable for publication on the Initiative's intent, concepts, and application.

Subtask 3.10: A written strategy for marketing and increasing receptivity to high performing correctional organizations.

Proposal Preparation: The successful applicant must demonstrate a logic model for building initially and sustaining over time the capacity required at state and local governance levels. The proposal must include a strategic plan detailing how the work will be organized and completed, project goals and objectives, methodologies, a list of involved persons and their roles, a budget, and experience working with organizational performance and business practices. The proposal and experience should address previously stated goals and objectives in this solicitation.

Required Expertise: It is highly desirable for the successful applicant to demonstrate experience in:

Facilitation of meetings and planning sessions of advisory committee, work groups and other stakeholders.

Experience collecting documentation and communicating multi-level strategies, information pieces, progress, time lines, budgets, meetings records and surveys.

Management of overall project organization and business processes.

Assessing, interpreting and summarizing research in relevant fields.

Acting as liaison and manager with research experts connected to the project.

Conceptualization of content and process and the ability to translate concepts into appropriate documents and other forms of communication.

Experience in guiding multiple organizations/agencies through a significant change process and case studies must be identified in the application.

Knowledge of public administration concepts and correctional organization business practices.

Display technical writing skills and can provide professional editing services.

Application Requirements: The application should be concisely written, typed double spaced and reference the “NIC Application Number” and Title provided in this announcement. The application package must include: OMB Standard Form 424, Application for Federal Assistance, a cover letter that identifies the audit agency responsible for the applicant's financial accounts as well as the audit period or fiscal year that the applicant operates under (e.g., July 1 through June 30), a program narrative responding to the requirements in this announcement, a description of the qualifications of the applicant(s), an outline of projected costs, and the following forms: OMB Standard Form 424A, Budget Information—Non-Construction Programs, OMB Standard Form 424B, Assurances—Non-Construction Programs (these forms are available in http://www.grants.gov), DOJ/NIC Certification Regarding Lobbying; Debarment, Suspension and Other Responsibility Matters; and Drug-Free Workplace Requirements (available at http://www.nicic.gov/Downloads/PDF/certif-frm.pdf.)

The program narrative text should be limited to 15 double spaced pages, exclusive of resumes and summaries of experience. Please do not submit full curriculum vitae. A telephone conference will be conducted for persons receiving this solicitation and having a serious intent to respond on Wednesday, June 5, 2008, at 2 p.m. EDST. Please notify Sherry Carroll electronically at scarroll@bop.gov by close of business on June 3, 2008, regarding your interest in participating in the conference. You will be provided a call-in number and instructions. Any other questions regarding this solicitation should also be addressed to Sherry Carroll at scarroll@bop.gov.

Authority: Pub. L. 93-415.

Funds Available: NIC is seeking the applicants' best ideas regarding accomplishment of the scope of work and the related costs for achieving the goals of this solicitation. The final budget and award amount will be negotiated between NIC and the successful applicant. Funds may only be used for the activities that are linked to the desired outcome of the project. No funds are transferred to state or local governments.

This project will be a collaborative venture with the NIC Research and Evaluation Division.

Eligibility of Applicants: An eligible applicant is any public or private agency, educational institution, organization, individual or team with expertise in the described areas.

Review Considerations: Applications received under this announcement will be subjected to a 3 to 7 person NIC Review Process.

Number of Awards: One.

NIC Application Number: 08PEI19. This number should appear as a reference line in the cover letter, and in box 4a of Standard Form 424 and outside of the envelope in which the application is sent.

Catalog of Federal Domestic Assistance Number: 16.602.

Executive Order 12372: This program is not subject to the provisions of Executive Order 12372.

Morris L. Thigpen,
Director, National Institute of Corrections.

[FR Doc. E8-10728 Filed 5-13-08; 8:45 am]

BILLING CODE 4410-36-P